DEPARTMENT OF HOMELAND SECURITY

Federal Emergency Management Agency

[Docket ID FEMA-2017-0002]

Changes in Flood Hazard Determinations

AGENCY: Federal Emergency Management Agency, DHS.

ACTION: Final Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: March 21, 2017.
Roy E. Wright,
Deputy Associate Administrator for Insurance and Mitigation, Department of Homeland Security, Federal Emergency Management Agency.

State and county | Location and case No. | Chief executive officer of community | Community map repository | Effective date of modification | Community No.
Arkansas:
Crawford (FEMA Docket No.: B-1665 | City of Van Buren (16-06-1669P | The Honorable Bob Freeman, Mayor, City of Van Buren, 1003 Broadway Street, Van Buren, AR 72956 | Public Works Department, 1003 Broadway Street, Van Buren, AR 72956 | Jan. 26, 201 | 05005
Crawford (FEMA Docket No.: B-1665 | Unincorporated areas of Crawford County (16-06-1669P | The Honorable John Hall, Crawford County Judge, 300 Main Street, Room 4, Van Buren, AR 72956 | Crawford County Department of Emergency Management, 1820 Chestnut Street, Van Buren, AR 72956 | Jan. 26, 201 | 05042
Colorado:
Adams (FEMA Docket No.: B-1665 | City of Thornton (16-08-0136P | The Honorable Heidi Williams, Mayor, City of Thornton, 9500 Civic Center Drive, Thornton, CO 80229 | Engineering Services Division, 12450 Washington Street, Thornton, CO 80241 | Feb. 10, 201 | 08000
Adams FEMA Docket No.: B-1665 | Unincorporated areas of Adams County 16-08-0136P | The Honorable Steve O'Dorisio, Chairman, Adams County Board of Commissioners, 4430 South Adams County Parkway, Brighton, CO 80601 | Adams County Development and Engineering Services Department, 4430 South Adams County Parkway, Brighton, CO 80601 | Feb. 10, 201 | 08000
Broomfield FEMA Docket No.: B-1660 | City and County of Broomfield (16-08-1117P | The Honorable Randy Ahrens, Mayor, City and County of Broomfield, 1 Des Combes Drive, Broomfield, CO 80020 | Engineering Department, 1 Des Combes Drive, Broomfield, CO 80020 | Jan. 27, 201 | 08507
Jefferson (FEMA Docket No.: B-1660 | City of Arvada (15-08-1159P | The Honorable Marc Williams, Mayor, City of Arvada, P.O. Box 8101, Arvada, CO 80001 | Engineering Division, 8101 Ralston Road, Arvada, CO 80001 | Jan. 27, 201 | 08507
Jefferson (FEMA Docket No.: B-1665 | City of Westminster (16-08-0792P | The Honorable Herb Atchison, Mayor, City of Westminster, 4800 West 92nd Avenue, Westminster, CO 80031 | Engineering Division, 4800 West 92nd Avenue, Westminster, CO 80031 | Feb. 17, 201 | 08000
Jefferson (FEMA Docket No.: B-1660 | Unincorporated areas of Jefferson County (15-08-1159P | The Honorable Libby Szabo, Chair, Jefferson County, Board of Commissioners, 100 Jefferson County Parkway, Golden, CO 80419 | Jefferson County Planning and Zoning Division, 100 Jefferson County Parkway, Golden, CO 80419 | Jan. 27, 201 | 08008
Delaware
New Castle (FEMA Docket No.: B-1665 | Unincorporated areas of New Castle County (16-03-2184P | The Honorable Thomas Gordon, New Castle County Executive, 87 Reads Way, New Castle, DE 19720 | New Castle County Department of Land Use, 87 Reads Way, New Castle, DE 19720 | Jan. 30, 201 | 10508
Florida:
Charlotte (FEMA Docket No.: B-1660 | Unincorporated areas of Charlotte County (16-04-6938P | The Honorable Bill Truex, Chairman, Charlotte County Board of Commissioners, 18500 Murdock Circle Port Charlotte, FL 33948 | Charlotte County Community Development Department, 18400 Murdock Circle, Port Charlotte, FL 33948 | Jan. 26, 201 | 12006
Lake (FEMA Docket No.: B-1665 | City of Groveland (16-04-3023P | The Honorable Tim Loucks, Mayor, City of Groveland, 156 South Lake Avenue, Groveland, FL 34736 | City Hall, 156 South Lake Avenue, Groveland, FL 34736 | Feb. 3, 201 | 12013
Lake (FEMA Docket No.: B-1665 | Unincorporated areas of Lake County (16-04-3023P | The Honorable Sean Parks, Chairman, Lake County Board of Commissioners, 315 West Main Street, Tavares, FL 32778 | Lake County Public Works Department, 323 North Sinclair Avenue, Tavares, FL 32778 | Feb. 3, 201 | 12042
Lee (FEMA Docket No.: B-1660 | City of Sanibel (16-04-5162P | The Honorable Kevin Ruane, Mayor, City of Sanibel, 800 Dunlop Road, Sanibel, FL 33957 | Building Department, 800 Dunlop Road, Sanibel, FL 33957 | Jan. 31, 201 | 12040
Lee (FEMA Docket No.: B-1660 | City of Sanibel (16-04-6547P | The Honorable Kevin Ruane, Mayor, City of Sanibel, 800 Dunlop Road, Sanibel, FL 33957 | Building Department, 800 Dunlop Road, Sanibel, FL 33957 | Jan. 26, 201 | 12040
Monroe (FEMA Docket No.: B-1660 | City of Key West (16-04-4726P | The Honorable Craig Cates, Mayor, City of Key West, P.O. Box 1409, Key West, FL 33041 | Building Department, 3140 Flagler Avenue, Key West, FL 33040 | Jan. 24, 201 | 12016
Osceola (FEMA Docket No.: B-1665 | Unincorporated areas of Osceola County (16-04-5214P | The Honorable Viviana Janer, Chair, Osceola County Board of Commissioners, 1 Courthouse Square, Suite 4700, Kissimmee, FL 34741 | Osceola County Development Review Department, 1 Courthouse Square, Suite 1400, Kissimmee, FL 34741 | Feb. 10, 201 | 12018
St. Johns (FEMA Docket No.: B-1665 | Unincorporated areas of St. Johns County (16-04-4101P | The Honorable Jeb Smith, Chairman, St. Johns County Board of Commissioners, 500 San Sebastian View, St. Augustine, FL 32084 | St. Johns County Building Services Division, 4040 Lewis Speedway, St. Augustine, FL 32084 | Jan. 31, 201 | 12514
Seminole (FEMA Docket No.: B-1665 | City of Oviedo (16-04-3084P | The Honorable Dominic Persampiere, Mayor, City of Oviedo, 400 Alexandria Boulevard, Oviedo, FL 32765 | Engineering Department, 400 Alexandria Boulevard, Oviedo, FL 32765 | Feb. 8, 201 | 12029
Seminole (FEMA Docket No.: B-1665 | Unincorporated areas of Seminole, County (16-04-3084P | The Honorable John Huran, Chairman, Seminole County Board of Commissioners, 1101 East 1st Street, Sanford, FL 32771 | Seminole County Development Review Division, 1101 East 1st Street, Sanford, FL 32771 | Feb. 8, 201 | 12028
Massachusetts:
Plymouth (FEMA Docket No.: B-1665 | Town of Mattapoisett (16-01-2222P | The Honorable R. Tyler Macallister, Chairman, Town of Mattapoisett Board of Selectmen, P.O. Box 435, Mattapoisett, MA 02739 | Building Department, 16 Main Street, Mattapoisett, MA 02739 | Feb. 17, 201 | 25521
Mississippi:
Madison (FEMA Docket No.: B-1665 | City of Ridgeland (16-04-1990P | The Honorable Gene McGee, Mayor, City of Ridgeland, 304 Highway 51, Ridgeland, MS 39157 | City Hall, 304 Highway 51, Ridgeland, MS 39157 | Feb. 10, 201 | 28011
New Mexico:
Bernalillo (FEMA Docket No.: B-1665 | City of Albuquerque (16-06-0422P | The Honorable Richard J. Berry, Mayor, City of Albuquerque, P.O. Box 1293, Albuquerque, NM 87102 | Development and Building Services Department, 600 2nd Street Northwest, Albuquerque, NM 87102 | Feb. 16, 201 | 35000
Bernalillo (FEMA Docket No.: B-1665 | Unincorporated areas of Bernalillo County (16-06-0422P | The Honorable Debbie O'Malley, Chair, Bernalillo County Board of Commissioners, 1 Civic Plaza Northwest, Albuquerque, NM 87102 | Bernalillo County Public Works Division, 2400 Broadway Boulevard Southeast, Albuquerque, NM 87102 | Feb. 16, 201 | 35000
North Dakota:
Burleigh (FEMA Docket No.: B-1665 | City of Bismarck (16-08-0336P | The Honorable Mike Seminary, Mayor, City of Bismarck, 221 North 5th Street, Bismarck, ND 58506 | City Hall, 221 North 5th Street, Bismarck, ND 58506 | Feb. 10, 201 | 38014
Oklahoma
Payne (FEMA Docket No.: B-1665 | City of Perkins (16-06-2777P | The Honorable Jason Shilling, Mayor, City of Perkins, P.O. Box 9, Perkins, OK 74059 | Floodplain Department, 110 North Main Street, Perkins, OK 74059 | Jan. 27, 201 | 40043
Payne (FEMA Docket No.: B-1665 | Unincorporated areas of Payne County (16-06-2777P | The Honorable Kent Bradley, Chairman, Payne County Board of Commissioners, 506 Expo Circle South, Stillwater, OK 74074 | Payne County Administrative Building, 315 West 6th Street, Suite 203, Stillwater, OK 74074 | Jan. 27, 201 | 40049
Pottawatomie (FEMA Docket No.: B-1665 | City of Shawnee (16-06-2100P | Mr. Justin Erickson, Manager, City of Shawnee, P.O. Box 1448, Shawnee, OK 74801 | City Hall, 16 West 9th Street, Shawnee, OK 74801 | Feb. 15, 201 | 40017
Pennsylvania:
Franklin (FEMA Docket No.: B-1665 | Borough of Chambersburg (16-03-0980P | The Honorable Allen B. Coffman, President, Borough of Chambersburg Council, 100 South 2nd Street, Chambersburg, PA 17201 | Borough Hall, 100 South 2nd Street, Chambersburg, PA 17201 | Feb. 3, 201 | 42046
Montgomery (FEMA Docket No.: B-1660 | Borough of Conshohocken (16-03-0726P | Mr. Richard J. Manfredi, Manager, Borough of Conshohocken, 400 Fayette Street, Conshohocken, PA, 19428 | Borough Administration Building, 400 Fayette Street, Conshohocken, PA 19428 | Jan. 30, 201 | 42094
Montgomery (FEMA Docket No.: B-1660 | Borough of West Conshohocken (16-03-0726P | The Honorable Joseph Pignoli, President, Borough of West Conshohocken Council, 112 Ford Street, Conshohocken, PA 19428 | Borough Hall, 112 Ford Street, Conshohocken, PA 19428 | Jan. 30, 201 | 42071
Montgomery (FEMA Docket No.: B-1660 | Township of Plymouth (16-03-0726P | Ms. Karen B. Weiss, Manager, Township of Plymouth, 700 Belvoir Road, Plymouth Meeting, PA 19462 | Township Hall, 700 Belvoir Road, Plymouth Meeting, PA 19462 | Jan. 30, 201 | 42095
South Carolina:
Charleston (FEMA Docket No.: B-1660 | City of Folly Beach (16-04-6421P | The Honorable Tim Goodwin, Mayor, City of Folly Beach, P.O. Box 48, Folly Beach, SC 29439 | Public Works Department, 21 Center Street, Folly Beach, SC 29439 | Jan. 24, 201 | 45541
South Dakota:
Aurora (FEMA Docket No.: B-1665 | City of Plankinton (16-08-0366P | The Honorable Joe Staller, Mayor, City of Plankinton, P.O. Box 517, Plankinton, SD 57368 | City Hall, 102 South Main Street, Plankinton, SD 57368 | Feb. 3, 201 | 46000
Aurora (FEMA Docket No.: B-1665 | Unincorporated areas of Aurora County (16-08-0366P | The Honorable Jeff Sauvage, Chairman, Aurora County Commission, 401 North Main Street, Plankinton, SD 57368 | Aurora County Courthouse, 401 North Main Street, Plankinton, SD 57368 | Feb. 3, 201 | 46029
Texas:
Burnet (FEMA Docket No.: B-1665 | Unincorporated areas of Burnet County (16-06-1135P | The Honorable James Oakley, Burnet County Judge, 220 South Pierce Street, Burnet, TX 78611 | Burnet County Environmental Services Department, 133 East Jackson Street, Burnet, TX 78611 | Feb. 13, 201 | 48120
Collin (FEMA Docket No.: B-1665 | City of Wylie (16-06-0594P | The Honorable Eric Hogue, Mayor, City of Wylie, 300 Country Club Road, Building 100, Wylie, TX 75098 | City Hall, 300 Country Club Road, Building 100, Wylie, TX 75098 | Feb. 9, 201 | 48075
Collin (FEMA Docket No.: B-1665 | Town of Prosper (16-06-3608P | The Honorable Ray Smith, Mayor, Town of Prosper, P.O. Box 307, Prosper, TX 75078 | Engineering Services Department, 407 East 1st Street, Prosper, TX 75078 | Feb. 16, 201 | 48014
Fort Bend (FEMA Docket No.: B-1665 | City of Katy (16-06-1376P | The Honorable Fabol R. Hughes, Mayor, City of Katy, P.O. Box 617, Katy, TX 77493 | Public Works Department, 901 Avenue C, Katy, TX 77493 | Feb. 14, 201 | 48030
Fort Bend (FEMA Docket No.: B-1665 | Unincorporated areas of Fort Bend County (16-06-1376P | The Honorable Robert Hebert, Fort Bend County Judge, 401 Jackson Street, Richmond, TX 77469 | Fort Bend County Engineering Department, 301 Jackson Street, Richmond, TX 77469 | Feb. 14, 201 | 48022
Fort Bend (FEMA Docket No.: B-1665 | Willow Fork Drainage District (16-06-1376P | The Honorable Richard Ward, President, Willow Fork Drainage District, Board of Directors, 3200 Southwest Freeway, Suite 2600, Houston, TX 7702 | AECOM, 5444 Westheimer Road, Suite 400, Houston, TX 77027 | Feb. 14, 201 | 48160
Tarrant (FEMA Docket No.: B-1660 | City of Fort Worth (16-06-1735P | The Honorable Betsy Price, Mayor, City of Fort Worth, 1000 Throckmorton Street, Fort Worth, TX 76102 | Transportation and Public Works Department, 1000 Throckmorton Street, Fort Worth, TX 76102 | Jan. 26, 201 | 4 48059
Williamson (FEMA Docket No.: B-1665 | Unincorporated areas of Williamson County (16-06-1135P | The Honorable Dan A. Gattis, Williamson County Judge, 710 South Main Street, Suite 101, Georgetown, TX 78626 | Williamson County Department of Infrastructure, 3151 Southeast Inner Loop, Suite B, Georgetown, TX 78626 | Feb. 13, 201 | 48107
Virginia:
Albemarle (FEMA Docket No.: B-1665 | Unincorporated areas of Albemarle County (16-03-1207P | Mr. Thomas C. Foley, Albemarle County Executive, 401 McIntire Road, Charlottesville, VA, 22902 | Albemarle County Community Development/Engineering Department, 401 McIntire Road, Charlottesville, VA, 22902 | Feb. 6, 201 | 51000
Independent City (FEMA Docket No.: B-1665 | City of Charlottesville (16-03-1207P | Mr. Maurice Jones, Manager, City of Charlottesville, P.O. Box 911, Charlottesville, VA 22902 | Neighborhood Development Services, 610 East Market Street, Charlottesville, VA 22902 | Feb. 6, 201 | 51003

[FR Doc. 2017-06677 Filed 4-4-17; 8:45 am]

BILLING CODE 9110-12-P